DEPARTMENT OF TRANSPORTATION

Research and Special Programs Administration

Actions on Exemption Applications

AGENCY: Research and Special Programs Administration, DOT.

ACTION: Notice of actions on Exemption Applications.

SUMMARY: In accordance with the procedures governing the application for, and the processing of, exemptions from the Department of Transportation's Hazardous Materials Regulations (49 CFR part 107, subpart B), notice is hereby given of the actions on exemption applications in JULY-SEPTEMBER 2002. The modes of transportation involved are identified by a number in the “Nature of Application” portion of the table below as follows: 1—Motor vehicle, 2—Rail freight, 3—Cargo vessel, 4—Cargo aircraft only, 5—Passenger-carrying aircraft. Application numbers prefixed by the letters EE represent applications for Emergency Exemptions. It should be noted that some of the sections cited were those in effect at the time certain exemptions were issued.

Issued in Washington, DC, on December 20, 2002.
R. Ryan Posten,
Exemptions Program Officer, Office of Hazardous Materials Exemptions and Approvals.

Application number | Exemption number | Applicant | Regulation(s) affected | Nature of exemption thereof
Modification Exemptions
7657-M | DOT-E 7657 | Welker Engineering Company, Sugar Land, TX | 49 CFR 173.201, 173.202, 173.203, 173.302(a)(1), 173.304(a)(1), 173.304(b)(1), 175.3 | To modify the exemption to authorize the transportation of additional Division 2.1, 2.2, 2.3 and Class 3 materials in a non-DOT specification stainless steel cylinder.
7657-M | DOT-E 7657 | Welker Engineering Company, Sugar Land, TX | 49 CFR 173.201, 173.202, 173.203, 173.302(a)(1), 173.304(a)(1), 173.304(b)(1), 175.3 | To modify the exemption to authorize the transportation of additional Division 2.1 and 2.2 materials in a non-DOT specification stainless steel cylinders.
8232-M | DOT-E 8232 | National Refrigerants, Inc., Philadelphia, PA | 49 CFR 173.123(a), 173.315 | To modify the exemption to authorize the transportation of a Division 2.2 material in non-DOT specification portable tanks.
8915-M | DOT-E 8915 | E.I. DuPont de Nemours and Company, Wilmington, DE | 49 CFR 173.301(d), 173.302(a)(3), 173.302(a)(5) | To modify the exemption to authorize the transportation of an additional Division 2.1 material in a manifolded DOT Specification cylinder.
9419-M | DOT-E 9419 | FIBA Technologies, Inc., Westboro, MA | 49 CFR 173.302(c)(2), 173.302(c)(3), 173.302(c)(4), 173.34(e), Part 107, Subpart B, Appendix B | To modify the exemption to authorize the elimination of the annual quantity limitation when performing the acoustic emission testing (AET) on DOT Specification cylinders for the transportation of various Division 2.1 and 2.2 gases.
9508-M | DOT-E 9508 | Callery Chemical Company, Pittsburgh, PA | 49 CFR 173.202(a)(3), 173.34(e), 175.3 | To modify the exemption to authorize the transportation of an additional Division 4.3 material in DOT Specification cylinders.
10389-M | DOT-E 10389 | Great Lakes Chemical Corporation, El Dorado, AR | 49 CFR 174.67(i) | To modify the exemption to authorize the transportation of a Division 6.1 and additional Class 8 material in tank cars.
10789-M | DOT-E 10789 | Allied Universal Corporation, Miami, FL | 49 CFR 173.304(a)(2), 173.34(d), 173.34(e) | To modify the exemption to authorize the retest period from 2 to 5 years for non-DOT specification fully open-head steel salvage cylinders and the use of a 3AA480 cylinder for the transportation of Division 2.3 materials.
10985-M | DOT-E 10985 | Georgia-Pacific Corporation, Atlanta, GA | 49 CFR 174.67(i), (j) | To modify the exemption to authorize the transportation of a Division 5.1 material in DOT Specification tank cars.
11262-M | DOT-E 11262 | CAIRE Inc. (Division of CHART Industries), Burnsville, MN | 49 CFR 173.316(c)(2), 175.3, 178.57-8(c) | To modify the exemption to authorize a new non-DOT specification cylinder design for the transportation of Division 2.2 materials used in a liquid oxygen supply system.
11373-M | DOT-E 11373 | Chemical Resources, Inc., Louisville, KY | 49 CFR 117.848(d) | To modify the exemption to authorize for-hire contract carriers the ability to transport Division 4.2 materials on the same vehicle with Class 8 materials.
11379-M | DOT-E 11379 | TRW Automotive, Occupant Safety Systems, Washington, MI | 49 CFR 173.301(h), 173.302 | To modify the exemption to authorize extension of the 10-hour lot duration for the non-DOT specification pressure vessels used as components of automobile vehicle safety systems.
11380-M | DOT-E 11380 | Baker Atlas (Houston Technology Center), Houston, TX | 49 CFR 173.34(d), 178.37-13, 178.37-15, 178.37-5 | To modify the exemption to authorize a new tank assembly design for the non-DOT specification seamless cylinders transporting Division 2.1 materials.
11401-M | DOT-E 11401 | Agilent Technologies, Inc., Santa Clara, CA | 49 CFR 172, 173.124, 173.125, 174, 175, 176, 177 | To modify the exemption to authorize an increase from 6 grams to a maximum of 9 grams of cesium in the inner cylinder device.
11650-M | DOT-E 11650 | Autoliv ASP, Inc., Ogden, UT | 49 CFR 178.65-9 | To modify the exemption to authorize an additional design qualification of the non-DOT specification pressure vessel sidewall opening for the transportation of Division 2.2 materials.
11759-M | DOT-E 11759 | Honeywell International, Inc., Morristown, NJ | 49 CFR 179.15(a) | To modify the exemption to authorize the use of an additional specification tank car with increased wall thickness for the transportation of Division 6.1 materials.
11970-M | DOT-E 11970 | ExxonMobil Chemical Company, Houston, TX | 49 CFR 172.101, 178.245-1(c) | To modify the exemption to authorize the use of alternative size non-DOT specification steel portable tanks for the transportation of a Division 4.2 material.
12398-M | DOT-E 12398 | Praxair Inc., Danbury, CT | 49 CFR 173.34(d), 178.35(e) | To modify the exemption to authorize the transportation of Division 2.3 and an additional Division 2.2 material in DOT 3A and 3AA cylinders equipped with an alternative relief device and to add cargo vessel as an additional mode of transportation.
12690-M | DOT-E 12690 | Air Liquide America Corporation, Houston, TX | 49 CFR 173.304(a)(2), Note 2 | To modify the exemption to authorize cargo vessel as an additional mode for the transportation of a Division 2.3 material in DOT Specification 3AA steel cylinders.
12844-M | DOT-E 12844 | Delphi Automotive Systems, Troy, MI | 49 CFR 173.301(h), 173.302(a), 175.3 | To modify the exemption to authorize relief from the requirement for each non-DOT specification pressure vessel longitudinal weld seam to be 100% radiographically inspected for the transportation of Division 2.2 materials.
12855-M | DOT-E 12855 | Kraton Polymers U.S. LLC, Belpre, OH | 49 CFR 172.302(c), 173.240 | To reissue the exemption originally issued on an emergency basis for the transportation of non-DOT specification pressure vessels containing a Class 3 material.
12917-M | DOT-E 12917 | Northwest Ohio Towing & Recovery, Inc., Beaverdam, OH | 49 CFR 173.242(b) | To reissue the exemption originally issued on an emergency basis for the transportation of Class 3 materials in non-DOT specification cargo tanks (aviation refuelers).
13002-M | DOT-E 13002 | Department of Defense (MTMC), Fort Eustis, VA | 49 CFR 172.301(c), 173.203(a), 173.306(f)(1) | To modify the exemption to reissue the exemption originally issued on an emergency basis for the transportation of Division 2.2 materials in accumulators.
13015-M | DOT-E 13015 | BOC Gases, Murray Hill, NJ | 49 CFR 172.203(a), 172.301(c), 173.400a(a)(1), 178.35(f) | Modification request to provide a transitional period for use of cylinder collars that obscure required markings.
13016-M | DOT-E 13016 | Carrier Transicold, Syracuse, NY | 49 CFR 172.301(c), 173.24(b)(1) | To reissue the exemption originally issued on an emergency basis for the release of a Division 2.2 gas from a DOT Specification cyclinder used in refrigerating equipment.
New Exemptions
12630-N | DOT-E 12630 | Chemetall GmbH Gesellschaft, Langelsheim, DE | 49 CFR 172.102(a)(2) & (c)(7)(ii) | To authorize the transportation in commerce of lithium alkyls, Division 4.2, in non-DOT specification IM 101 portable tanks with an equivalent minimum shell thickness less than that prescribed for the material. (modes 1, 2, 3)
12753-N | DOT-E 12753 | Praxair, Inc., Danbury, CT | 49 CFR 173.304(a) | To authorize the transportation in commerce of certain toxic gases in 3AX and 3AAX cylinders not presently authorized for use in transporting dichlorosilane, Division 2.3. (mode 1)
12872-N | DOT-E 12872 | Southern California Edison, San Clemente, CA | 49 CFR 173.403 | To authorize the one-time transportation in commerce of specially designed equipment containing Class 7 radioactive material. (mode 2)
12874-N | DOT-E 12874 | Zomeworks Corporation, Albuquerque, NM | 49 CFR 171 to 180 | To authorize the transportation in commerce of machine components that are charged with non-flammable, non-toxic refrigerant gas without packaging or communication requirements. (modes 1, 2, 3, 4, 5)
12953-N | DOT-E 12953 | Westinghouse Electric Company, Pittsburgh, PA | 49 CFR 173.453(d) | To authorize the transportation in commerce of packages of fissile material that exceed the quantities presently authorized. (modes 1, 2)
12955-N | DOT-E 12955 | Air Cruisers Company, Belmar, NJ | 49 CFR 172.301(c), 173.219(b)(1) | To authorize the transportation in commerce of life-saving appliances containing a compressed gas cylinder that is filled in excess of its marked service pressure. (modes 1, 4, 5)
12972-N | DOT-E 12972 | Voltaix, Inc., North Branch, NJ | 49 CFR 173.301(j) | To authorize the transportation in commerce of non-DOT specification cylinders for export containing various compressed gases without pressure relief devices. (modes 1, 3)
12982-N | DOT-E 12982 | Arthur L. Fleener, Ames, IA | 49 CFR 175.320 | To authorize the transportation in commerce of Division 1.1 explosives, which are forbidden for shipment by passenger-carrying aircraft to remote areas when no other means of transportation is available. (mode 5)
12994-N | DOT-E 12994 | Air Liquide American Corporation, Houston, TX | 49 CFR 173.34(d) | To authorize the transportation in commerce of certain DOT specification cylinders and cylinders manufactured to a foreign specification without pressure relief devices. (modes 1, 3)
12995-N | DOT-E 12995 | The Dow Chemical Company, Midland, MI | 49 CFR 173.306(a)(3)(v) | To authorize the transportation in commerce of inner metal receptacles which have been subjected to an alternative testing procedure for use in transporting limited quantities of compressed gases. (modes 1, 2, 3, 4)
12997-N | DOT-E 12997 | Albermarle Corporation, Baton Rouge, LA | 49 CFR 173.24(g)(4) | To authorize the transportation in commerce of hazardous materials in a vented bulk packaging (an intermediate bulk container) when venting is not authorized. (modes 1, 2, 3)
13020-N | DOT-E 13020 | Bristol Bay Contractors, Inc., King Salmon, AL | 49 CFR 173.243, 173.315 | To authorize the transportation in commerce of propane in certain non-specification portable tanks. (modes 1, 2, 3)
13023-N | DOT-E 13023 | Energy Conversion Devices, Inc., Troy, MI | 49 CFR 173.187 | To authorize the one-time transportation in commerce of one overpack containing a specially designed device containing a Division 4.2 material that exceeds the maximum quantity limitations. (mode 1)
13025-N | DOT-E 13025 | Southern California Edison, San Clemente, CA | 49 CFR 173.403, 173.427 | To authorize the one-time transportation in commerce of specially designed equipment containing Class 7 hazardous materials. (mode 1)
13027-N | DOT-E 13027 | Hernco Fabrication & Services, Midland, TX | 49 CFR 173.241, 173.242 | To authorize the manufacture, mark, sale and use of a packaging consisting of manifolded non-DOT specification tanks for use in transporting certain Class 3 and Class 8 hazardous materials. (mode 1)
13034-N | DOT-E 13034 | ATK-Ammunition Accessories, Inc., Lewiston, ID | 49 CFR 173.24(c), 173.54(a), 173.62 | To authorize the transportation in commerce of explosive components, Division 1.4S in specially designed packaging. (mode 1)
13048-N | DOT-E 13048 | Department of Energy/Richland Operations Office, Richland, WA | 49 CFR 173.244 | To authorize the one-time, one-way transportation in commerce of a non-DOT specification containment system for waste disposal. (mode 1)
13052-N | DOT-E 13052 | Questar, Inc., North Canton, OH | 49 CFR 172.301(a), 172.301(c), 172.400(a), 173.173(b)(2), 173.242 | To authorize the manufacture, marking, sale and use of UN 11G fiberboard intermediate bulk containers for use as the outer packaging for certain waste paints and waste paint related material, Class 3 in 5 gallon pails. (mode 1)
13056-N | DOT-E 13056 | American Type Culture Collection (ATCC), Manassas, VA | 49 CFR 172, Subpart C, 173.134 | To authorize the transportation in commerce of certain infectious substances in special packagings. (mode 1)
13057-N | DOT-E 13057 | MINTEQ International Inc., Easton, PA | 49 CFR 172 Subparts D, E & F, 173.24(c) Subparts E & F of Part 173 | To authorize the transportation in commerce of metal tubing containing hazardous materials to be transported with minimal regulation. (modes 1, 2, 3)
13083-N | DOT-E 13083 | Rockwood Pigments NA, Inc., St. Louis, MO | 49 CFR 172,101 (SP IB6 or IP2) | To authorize the transportation in commerce of self-heating, solid, organic, n.o.s. in fexible intermediate bulk containers not to exceed 2,500 lbs. (modes 1, 2, 3)
13092-N | DOT-E 13092 | Aztec Peroxides, L.L.C., Elyria, OH | 49 CFR 173.225(e) | To authorize the transportation in comerce of certain organic peroxides, Division 5.2 in DOT-Specification cargo tanks. (mode 1)
EMERGENCY EXEMPTIONS
EE 8556-M | DOT-E 8556 | Gardner Cryogenics, Lehigh Valley, PA | 49 CFR 173.318, 176.76(g)(1), 178.338 | Modification request to add reference to an additional flow diagram. (modes 1, 2)
EE 12955-M | DOT-E 12955 | Air Cruisers | 49 CFR 172.301(c), 173.219(b)(1) | Modification request to provide additional time for cylinders to be re-marked. (modes 1, 4, 5)
EE 12976-M | DOT-E 12976 | University of Pittsburgh, Pittsburgh, PA | 49 CFR 172.302(c), 173.196 | Modification request to provide an additional 90 days due to construction delays. (mode 1)
EE 13014-M | DOT-E 13014 | Acambis Inc., Cambridge, MA | 49 CFR 173.196, 178.609 | Modification request to provide additional time to transport smallpox vaccine due to technical delays. (mode 1)
EE 13032-N | DOT-E 13032 | Conax Florida Corp. 2, St. Petersburg, FL | 49 CFR 178.65 | To authorize the transportation in commerce of a DOT cylinder as part of a component for a vehicle that is part of the National Missile Defense Program. (mode 1)
EE 13036-N | DOT-E 13036 | Datum, Beverly, MA | 49 CFR 173.34(d) | To authorize the transportation in commerce of a non-DOT specification container for hydrogen. (mode 1)
EE 13042-M | DOT-E 13042 | Department of State, Washington, DC | 49 CFR 172.101, Table Column 8C | Emergency modification request to authorize Tyvek bags as inner packaging for transportation of anthrax contaminated objects. (mode 1)
EE 13065-N | DOT-E 13065 | ShipMate, Inc., Torrance, CA | 49 CFR 173.166(c) | Emergency request to authorize the transportation of air bag modules and seat-belt pretensioners using an abbreviated EX number (i.e., the last two digits of the year rather than using a four digit number to identify the year). (mode 1, 2, 3, 4, 5)
EE 13065-M | DOT-E 13065 | Toyota Motor Sales | 49 CFR 173.166(c) | Emergency request to authorize the transportation of air bag modules and seat-belt pretensioners using an abbreviated EX number (i.e., the last two digits of the year rather than using a four digit number to identify the year). (mode 1, 2, 3, 4, 5)
EE 13067-N | DOT-E 13067 | Kuehne Chemical Company, South Kearney, NJ | 49 CFR 172.302(c), 179.300-12(b), 179.300-13(a), 179.300-14 | To authorize the transportation in commerce of a leaking DOT specification multi-unit tank car tank that has been fitted with an emergency “B” kit to prevent leakage during transportation. (mode 1)
EE 13068-N | DOT-E 13068 | Brenntag Mid-South Inc., Springfield, MO | 49 CFR 172.302(c), 179.300-12(b), 179.300-13(a), 179.300-14 | To authorize the transportation in commerce of a leaking multi-unit tank car tank that has been fitted with an emergency “B” kit to prevent leakage during transportation. (mode 1)
EE 13071-N | DOT-E 13071 | JCI Jones Chemcials, Inc., Charlotte, NC | 49 CFR 173. 49 CFR 172.302(c), 179.300-12(b), 179.300-13(a), 179.300-14 | To authorize the transportation in commerce of a leaking DOT specification multi-unit tank car tank that has been fitted with an emergency “B” kit prevent leakage (mode 1)
EE13072-N | DOT-E 13072 | JCI Jones Chemicals, Inc., Beech Grove, IN | 49 CFR 173.302(c), 179.300-12(b), 179.300-13(a), 179.300-14 | To authorize the transportation in commerce of a leaking DOT multi-unit tank car tank that has been fitt4ed with an emergency “B” kit to prevent leakage during transportation. (mode 1)
EE13073-N | DOT-E 13073 | Alcohol, Tobacco & Firearms, Washington, DC | 49 CFR 173,56(b), 173.62 | Emergency request to transport 35 grams of unapproved explosives to an ATF laboratory. (mode 1)
EE13074-N | DOT-E 13074 | Harcross Chemicals Inc., Kansas City, KS | 49 CFR 173.34(d) | Emergency request to transport a DOT3A480 cylinder containing chlorine that has developed a leak and has a Chlorine Institute A Kit applied. (mode 1)
EE13075-N | DOT-E 13075 | Alexander Chemical Corp., LaPorte, IN | 49 CFR 173.302(c), 179.300-12(b), 179.300-13(a), 179.300-14 | To authorize the transportation in commerce of a leaking DOT specification multi-unit tank car tank that has been fitted with an emergency “B” kit to prevent leakage during transportation. (mode 1)
EE13079-N | DOT-E 13079 | Atofina Chemicals, Inc., Philadelphia, PA | 49 CFR 172.400 | To authorize the transportation in commerce for a one-time shipment of class 9 materials that have been mis-labeled as class 3 flammables. (mode 1)
EE13086-N | DOT-E 13086 | Alexander Chemical Corporation, LaPorte, IN | 49 CFR 173.34(d) | Emergency request to transport a DOT3AA480 cylinder containing chlorine which has developed a leak and is fitting with a Chlorine Institute A Kit. (mode 1)
EE13089-N | DOT-E 13089 | Harcross Chemicals, Inc., Kansas City, KS | 49 CFR 172.301(c), 173.34(d) | Emergency request to transport a DOT 3A480 cylinder containing chlorine that has developed a leak and has a Chlorine Institute A kit applied. (mode 1)
EE13090-N | DOT-E 13090 | JCI Jones Chemicals Inc., Caledonia, NY | 49 CFR 173.301(c), 173.34(d) | To authorize the transportation in commerce of a leaking DOT3A480 cylinder containing chlorine which has an emergency “A” kit applied to prevent leakage during transportation. (mode 1)
EE13093-N | DOT-E 13093 | Kuehne Chemical Company, South Kearny, NJ | 49 CFR 173.302(c), 179.300-12(b), 179.300-13(a), 179.300-14 | To authorize the transportation in commerce of a leaking DOT specification multi-unit tank car tank that has been fitted with an emergency “B” kit to prevent leakage during transportation. (mode 1)
EE13094-N | DOT-E 13094 | Airgas Nor Pac, Seattle, WA | 49 CFR 173.302(c), 179.300-12(b), 179.300-13(a), 179.300-14 | To authorize the transportation in commerce of a leaking DOT specification multi-unit tank car tank that has been fitted with an emergency “B” kit to prevent leakage during transportation. (mode 1)
EE13095-N | DOT-E 13095 | Ocean Drilling Program, College Station, TX | 49 CFR 173.302, 175.3 | Emergency request to transport certain non-DOT specification hydraulic accumulators containing methane. (mode 1)
EE 13096-N | DOT-E 13096 | Hacros Chemicals Inc., Kansas City, KS | 49 CFR 172.301(c), 173.34(d) | Emergency request to transport a DOT 3A480 specification cylinder containing chlorine that has developed a leak and has a Chlorine Institute A kit applied. (mode 1)
EE 13097-N | DOT-E 13097 | Alexander Chemical Corporation, LaPorte, IN | 49 CFR 172.301(c), 173.34(d) | Emergency request to transport a DOT 3AA480 specification cylinder containing chlorine that has developed a leak and has a Chlorine Institute A kit applied. (mode 1)
EE 13098-N | DOT-E 13098 | JCI Jones Chemicals, Inc., Caledonia, NY | 49 CFR 172.302(c), 179.300-12(b), 179.300-13(a), 179.300-14 | Emergency request to transport a DOT 106A500 specification multi unit tank car tank containing chlorine that has developed a task and has a chlorine Institute B kit applied. (mode 1)
EE 13099-N | DOT-E 13101 | The Colibri Corporation, Providence, RI | 49 CFR 172.301(a), 172.301(c), 178.3, 178.33a-9 | Emergency request to authorize the transportation in commerce of receptable containing flammable gas that are not marked with a specification, and are mis-marked with the proper shipping name and identification number. (mode 1)
EE 13102-N | DOT-E 13102 | Watts Regulator Company, North Andover, MA | 49 CFR 173.150(b), 173.222(c), 173.306(a), 173.322 | Emergency request to transport non-DOT specification packagings, with limited quantities of various hazardous materials. (modes 1, 2, 4)
EE 13103-N | DOT-E 13103 | JCI Jones Chemicals Inc., Milford, VA | 49 CFR 172, Subparts C&G, 172.301(c), 173.34(d) | Emergency request to transport a DOT Specification 3A480 cylinder containing chlorine that has developed a leak and is equipped with a Chlorine Institute A kit. (mode 1)
EE 13113-N | DOT-E 13113 | Dow Chemicals, Inc., Kansas City, KS | 49 CFR 172.302(c), 179.300-12(b), 179.300-13(a), 179.300-14 | Emergency request to transport a DOT Specification 106A500 multi unit tank car tank containing chlorine which developed a leak in the valve and has a Chlorine Institute B kit applied. (mode 1)
EE 13113-N | DOT-E 13113 | Dow AgroSciences L.L.C., Indianapolis, IN | 49 CFR 172.302, 173.243(b) and (c) | To authorize the transportation in commerce of a division 6.1 material in DOT specification cargo tanks that are not authorized for that material in the HMR. (mode 1)
EE 13115-N | DOT-E 13115 | Airgas Northeast, Cheshire, CT | 49 CFR 172.301(c), 173.34(d) | Emergency request to transport a DOT specification 4BW240 cylinder containing sulfur dioxide which developed a leak and has a Chlorine Institute A kit applied. (mode 1)
EE 13119-N | DOT-E 13119 | JCI Jones Chemicals Inc., Cadedonia, NY | 49 CFR 172.301(c), 173.34(d) | Emergency request to transport a DOT specification 3A480 cylinder containing sulfur dioxide that has developed a leak and has a Chlorine Institute A kit applied. (mode 1)
EE 13120-N | DOT-E 13120 | JCI Jones Chemicals, Charlotte, NC | 49 CFR 173.302(c), 179.300-12(b), 179.300-13(a), 179.300-14 | To authorize the transportation in commerce of a leaking DOT specification multi-unit tank car tank that has been fitted with an emergency “B” kit to prevent leaking during transportation. (mode 1)
EE 13121-N | DOT-E 13121 | Airgas, Corpus Christi, TX | 49 CFR 172.301(c), 173.34(d) | Emergency request to transport a DOT specification 3A480 cylinder containing chlorine that developed a leak and has a Chlorine Institute A kit applied. (mode 1)
EE 13122-N | DOT-E 13122 | DPC Enterprises, Houston, TX | 49 CFR 172.302(c), 179.300-12(b), 179.300-13(a), 179.300-14 | Emergency request to transport a DOT specification 106A500X multi unit tank car tank containing sulfur dioxide that developed a leak and has a Chlorine Institute B kit applied. (mode 1)
EE 13123-N | DOT-E 13123 | DPC Enterprises, Houston, TX | 49 CFR 172.301(c), 173.34(d) | Emergency request to transport a DOT specification 3A480 cylinder containing chlorine that developed a leak and has a Chlorine Institute A kit applied. (mode 1)
EE 13125-N | DOT-E 13125 | Allied Universal Corporation, Miami, FL | 49 CFR 173.302(c), 179.300-12(b), 179.300-13(a), 179.300-14 | To authorize the transportation in commerce of a leaking ton cylinder that has been fitted with an emergency “B” kit to prevent leakage during transportation. (mode 1)
EE 13126-N | DOT-E 13126 | Univar USA Inc., Twinsburg, OH | 49 CFR 172.301(c), 173.34(d) | Emergency request to transport a DOT specification 3A480 cylinder containing sulfur dioxide that developed a leak and has a Chlorine Institute A kit applied. (mode 1)
EE 13128-N | DOT-E 13128 | Alexander Chemical Co., LaPorte, IN | 49 CFR 173.34(d) | To authorize the transportation in commerce of a leaking cylinder that has been fitted with an emergency “A” kit to prevent leakage during transportation. (mode 1)
EE 13130-N | DOT-E 13130 | DPC Enterprises, Houston, TX | 49 CFR 173.34(d) | To authorize the transportation in commerce of a leaking cylinder that has been fitted with an emergency “A” kit to prevent leakage during transportation. (mode 1)
EE 13131-N | DOT-E 13131 | Airgas-Nor Pac, Inc., Portland, OR | 49 CFR 173.34(d) | To authorize the transportation in commerce of a leaking cylinder that has been fitted with an emergency “A” kit to prevent leakage during transportation. (mode 1)

Denials
10440-M | Request by MASS Systems (A Unit of Ameron Global, Inc.) Baldwin Park, CA to modify the exemption to authorize an alternative maintenance/inspection program for welded austenitic stainless steel non-DOT specification cylinders, conforming with DOT Specification 4DS, for the transportation of Division 2.2 materials denied September 27, 2002.
11759-M | Request by E.I DuPont de Nemours & Company, Inc. Wilmington, DE to modify the exemption to authorize the transportation of a Division 6.1 material in DOT Specification tank cars denied August 6, 2002.
12820-N | Request by Trinity Manufacturing Hamlet, NC to authorize the transportation in commerce of chloropicrin, 6.1, poison inhalation hazard, Hazard Zone B and chloropicrin mixtures in 1A1 drums in an alternative stacking position denied July 16, 2002.
12845-N | Request by Qantas Airways Limited Los Angeles, CA to authorize the transportation in commerce of cylinders containing medical use compressed oxygen that exceed the present quantity limitation denied September 27, 2002.
13024-N | Request by Sybron Dental Specialties Inc. Orange, CA to authorize the transportation in commerce of specially designed packagings containing metallic mercury, Class 8 in package quantities exceeding one pound with the prescribed marking and labelling denied September 25, 2002.

[FR Doc. 03-187 Filed 1-3-03; 8:45 am]

BILLING CODE 4909-60-M